DEPARTMENT OF COMMERCE

International Trade Administration

[A-831-804]

Aluminum Foil From the Republic of Armenia: Initiation of Antidumping Duty Changed Circumstances Review

AGENCY: Enforcement and Compliance, International Trade Administration, Department of Commerce.

SUMMARY: The U.S. Department of Commerce (Commerce) is initiating a changed circumstances review (CCR) of the antidumping duty (AD) order on aluminum foil from the Republic of Armenia (Armenia) to examine whether Armenia remains a non-market economy (NME) country for purposes of the application of the AD law.

DATES: Applicable February 13, 2024.

FOR FURTHER INFORMATION CONTACT: Leah Wils-Owens or Chien-Min Yang, Office of Policy, Enforcement and Compliance, International Trade Administration, U.S. Department of Commerce, 1401 Constitution Avenue NW, Washington, DC 20230; telephone: (202) 482-4203 or (202) 482-5484, respectively.

SUPPLEMENTARY INFORMATION:

Background

On December 21, 2023, the Government of Armenia (GOA) submitted a letter to Commerce requesting that Commerce conduct a review of Armenia's status as an NME country ¹ within the context of a changed circumstances review (CCR) of the AD order on aluminum foil from Armenia.² In its CCR Request, the GOA describes changes that have occurred in Armenia in recent years as they relate to each of the statutory criteria Commerce uses to evaluate a country's market economy (ME) status. Specifically, the CCR Request provides information about the convertibility of the Armenian Dram, how wage rates in Armenia are determined by free bargaining between labor and management, and the extent to which joint ventures and other investments by firms from other countries are permitted in Armenia. The CCR Request also provides information on government ownership and control over the means of production and the allocation of resources in Armenia, as well as the government's influence over enterprises' price and output decisions. Finally, the GOA provided its views on other factors that could affect its ME status, including its persistent fight against government corruption and various reforms enacted in conjunction with its accession to the World Trade Organization.

¹ See GOA's Letter, “Request for the U.S. Department of Commerce to Initiate a Changed Circumstances Review of the Antidumping Duty Order on Aluminum Foil from the Republic of Armenia,” dated December 21, 2023 (CCR Request).

² See Certain Aluminum Foil from the Republic of Armenia: Final Affirmative Determination of Sales at Less Than Fair Value, 86 FR 52882 (September 23, 2021) (Foil from Armenia Final Determination).

Initiation of Changed Circumstances Review

Pursuant to section 751(b)(1) of the Tariff Act of 1930, as amended (the Act), when Commerce receives information concerning, or a request from an interested party for a review of, a final affirmative determination that resulted in an AD or countervailing duty order, which shows changed circumstances sufficient to warrant a review of such determination, Commerce shall conduct a review of the determination after publishing notice of the review in the Federal Register. Commerce finds that the GOA has provided sufficient evidence to initiate a review of Armenia's NME status. Therefore, in response to this request, Commerce is initiating this CCR to examine whether Armenia is still an NME country for purposes of the application of the AD law, pursuant to sections 751(b) and 771(18)(C)(ii) of the Act. Commerce has treated Armenia as an NME country in all past AD investigations and administrative reviews.³ An NME designation remains in effect until it is revoked by Commerce.⁴

³ See, e.g., Foil from Armenia Final Determination.

⁴ See section 771(18)(C)(i) of the Act.

Opportunity for Public Comment and Submission of Factual Information

As part of this inquiry to review Armenia's NME country status, Commerce invites public comments on Armenia's economy on the following factors enumerated by section 771(18)(B) of the Act, which Commerce must consider in making ME/NME determinations:

(i) the extent to which the currency of the foreign country is convertible into the currency of other countries;

(ii) the extent to which wage rates in the foreign country are determined by free bargaining between labor and management;

(iii) the extent to which joint ventures or other investments by firms of other foreign countries are permitted in the foreign country;

(iv) the extent of government ownership or control over the means of production;

(v) the extent of government control over allocation of resources and over price and output decisions of enterprises; and

(vi) such factors as the administering authority considers appropriate.

The deadline for the submission of comments is not later than 30 days after the date of publication of this notice. Rebuttal comments, limited to issues raised in parties' affirmative comments, may be filed not later than 14 days after the date for filing affirmative comments. Interested parties must submit comments and factual information at the Federal eRulemaking Portal: https://www.Regulations.gov. The identification number is ITA-2024-0001. An electronically filed document must be received successfully in its entirety by 5:00 p.m. Eastern Time on the due date set forth in this notice.⁵

⁵ See Administrative Protective Order, Service, and Other Procedures in Antidumping and Countervailing Duty Proceedings, 88 FR 67069, 67077 (September 29, 2023).

Parties may request a hearing in their comments. If Commerce determines that a hearing is warranted, parties will be notified of the date and time for the hearing, in accordance with 19 CFR 351.310(d).

Unless extended, consistent with 19 CFR 351.216(e), we will issue the final results of this CCR no later than 270 days after the date on which this review was initiated.

Notification to Interested Parties

This notice is issued and published in accordance with sections 771(b)(1) and 777(i) of the Act, and 19 CFR 351.221(b) and (c)(3).

Dated: February 5, 2024.
Ryan Majerus,
Deputy Assistant Secretary for Policy and Negotiations, Performing the Non-exclusive Functions and Duties of the Assistant Secretary for Enforcement and Compliance.

[FR Doc. 2024-02928 Filed 2-12-24; 8:45 am]

BILLING CODE 3510-DS-P